DEPARTMENT OF TRANSPORTATION

National Highway Traffic Safety Administration

49 CFR Part 571

[Docket No. NHTSA 2005-21600]

RIN 2127-AI94

Federal Motor Vehicle Safety Standards; Designated Seating Positions and Seat Belt Assembly Anchorages

AGENCY: National Highway Traffic Safety Administration (NHTSA), Department of Transportation.

ACTION: Notice of proposed rulemaking (NPRM).

SUMMARY: We are proposing to amend the definition of “designated seating position” in the Federal motor vehicle safety standards (FMVSSs), and to establish a new procedure for determining the number of designated seating positions on bench and split bench seats. This document also proposes to apply that procedure to all types of vehicles, regardless of weight, and eliminate the existing exclusion for temporary or folding jump seats. The proposed rule would also revise test procedures for seat belt anchorage requirements so that they are suitable for side-facing, temporary or folding jump seats. NHTSA's goal in proposing these amendments is to improve the objectivity of the “designated seating position” definition and thereby facilitate efforts of the agency to ensure that the number of designated seating positions and occupant restraint systems in a vehicle is representative of real world occupancy.

The proposed rule would also revise the general incorporation by reference provision for the FMVSSs by providing a centralized index of all matters therein incorporated by reference.

DATES: You should submit comments early enough to ensure that Docket Management receives them not later than August 22, 2005.

ADDRESSES: You may submit comments [identified by the DOT DMS Docket Number above] by any of the following methods:

• Federal eRulemaking Portal: Go to http://www.regulations.gov. Follow the online instructions for submitting comments.

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 am and 5 pm, Monday through Friday, except Federal Holidays.

Instructions: All submissions must include the agency name and docket number or Regulatory Identification Number (RIN) for this rulemaking. For detailed instructions on submitting comments and additional information on the rulemaking process, see the Request for Comments heading of the Supplementary Information section of this document. Note that all comments received will be posted without change to http://dms.dot.gov, including any personal information provided. Please see the Privacy Act heading under Rulemaking Analyses and Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: For non-legal issues, you may contact Philip Oh of the NHTSA Office of Vehicle Safety by telephone at (202) 493-0195, and by fax at (202) 493-2290.

For legal issues, you may contact Christopher Calamita of the NHTSA Office of Chief Counsel by telephone at (202) 366-2992 and by fax at (202) 366-3820.

You may send mail to both of these officials at the National Highway Traffic Safety Administration, 400 Seventh St., SW., Washington, DC 20590.

SUPPLEMENTARY INFORMATION:

Table of Contents

I. Background

II. Safety Problem

III. Proposed Amendments

A. ”Designated seating position”

B. Measuring hip room

C. Number of designated seating positions

D. H-point

E. Auxiliary seating and safety belt anchorages

F. Preemption

IV. Benefits and Costs

V. Incorporation by Reference

VI. Effective Date

VII. Request for Comments

VIII. Rulemaking Analyses and Notices

I. Background

Motor vehicle manufacturers are required to designate which locations in their vehicles are seating positions. The designation of a location as a seating position is important for a variety of reasons. For example, passenger cars are required, under Federal Motor Vehicle Safety Standard (FMVSS) No. 110, Tire and rim selection, to be clearly labeled with a maximum seating capacity. Moreover, FMVSS No. 208, Occupant crash protection, requires that each designated seating position, as defined in 49 CFR 571.3, in a light vehicle ¹ be provided with the appropriate occupant crash protection system (e.g., air bag, safety belts or both). If a vehicle has fewer designated seating positions than the number of seated individuals actually occupying it, some occupants would not be protected by safety belts or other crash protection systems.

¹ NHTSA uses the term “light vehicle” to refer to passenger cars, multipurpose passenger vehicles, trucks and buses with a gross vehicle weight rating (GVWR) of not greater than 10,000 lb.

In 1978, the agency expressed concern with the common practice of designating front seats as having two seating positions, although they had capacity to accommodate three adults (43 FR 21892; May 22, 1978; Docket No. 78-13). As a result of this practice, front center passengers were not provided with safety belt assemblies. In response to this concern, the agency amended the definition of “designated seating position” to specify dimensional parameters. The agency stated that this was “intended to ensure that all positions likely to be used for seating will be equipped with occupant restraint systems” (44 FR 23229; April 19, 1979). The portion of the definition of “designated seating position” relevant to the above discussion remains unchanged today.²

² The definition was amended again in 1995 to allow each wheelchair position to count as four designated seating positions for the purpose of determining vehicle classification in school buses only (57 FR 15504; March 24, 1995).

As discussed below, however, field data regarding vehicle occupancy indicates that there is some ambiguity in the current definition and that it might not always require what we believe should be a full complement of designated seating positions (DSPs) to accommodate real world use.

II. Safety Problem

Vehicle seat design and motor vehicle crash data indicate that in some instances real world occupancy rates exceed the number of designated seating positions in a vehicle, particularly on bench and split seats. The agency has placed a Preliminary Regulatory Evaluation (PRE) in the docket for this rulemaking that details our findings. Within the report, a survey of vehicle crash and fatality reporting systems data indicates that three passengers are occupying seats designated as having two seating positions (2-DSP seats). The agency reviewed and compared incidents involving three passengers occupying either a 2-DSP rear seat or a rear seat with three designated seating positions (3-DSP seat).

Additionally, the PRE shows a significant decrease in the belt usage rate when comparing incidents in which two passengers occupied a 2-DSP seat to incidents in which three passengers occupied a 2-DSP seat. The 1997 to 2001 National Automotive Sampling System (NASS) data indicated a drop in the belt usage rate for these cases from 53.25 percent to 27.67 percent, respectively. These FARS data indicate that an occupant is at higher risk when he or she is one of the three occupants in a rear 2-DSP seat than when in a 3-DSP seat. These risks appear to be independent of vehicle size and the presence of padded or carpeted barriers that are intended to limit capacity.

Vehicle size may not adequately limit the number of passengers occupying a vehicle seat from exceeding the designated capacity. The fatality rate for a passenger occupying a rear 2-DSP seat together with two other passengers was only slightly lower for occupants in a Geo Metro, a sub-compact, than the average rate for occupants of all vehicles surveyed: 6.02 versus 6.07 fatalities per one million registered vehicles.

The rate at which one of the three passengers occupying a 2-DSP seat is killed in a motor vehicle crash also appears to be independent of the presence of physical features, other than those discussed in the next paragraph, intended to limit occupancy. The Chevrolet Camaro, which features a carpeted drive shaft tunnel that separates the two rear designated seating positions, had a similar fatality rate to that of the Ford Mustang. While the Camaro has a carpeted barrier, the Ford Mustang has a rear bench seat with no barrier between the two designated seating positions. The fatality rate for instances of three passengers occupying a 2-DSP seat was actually slightly higher for the Camaro than for the Mustang; 7.81 versus 7.51 fatalities per one million registered vehicles, respectively.

Conversely, available data demonstrate that certain physical obstructions in the second row of seating can effectively limit the number of occupants to the number of designated seating positions. The Saturn SC Coupe 2 Door had no FARS fatalities involving three occupants in its 2-DSP second row of seating, and the Acura Integra 2 Door had only 2.44 such fatalities per one million registered vehicles. Both the Saturn SC Coupe and the Acura Integra had a hard plastic console that divides the rear seat into two seating positions, limiting seating capacity.

In cases in which the same vehicle model was manufactured in both a two-door (2-DSP second row seating) and a four-door (3-DSP second row seating) version, the PRE shows that the incident rate for occupants of the rear seat of the two door version, when occupied by three passengers, was two-thirds of that of the four-door version, or higher. While the incident rates may not directly correlate to the frequency of three occupants using a 2-DSP seat, the rates demonstrate that seats designated as having only two seating positions are being used by three occupants. As a result, at least one occupant would not have access to a safety belt assembly. A survey of State Data System (SDS) accident reports compared the two-door (with 2-DSP second row seating) and the four-door (with 3-DSP second row seating) models of the Ford Explorer and the Chevrolet S10 Blazer. The incident rate for second row occupants when three passengers occupied the second row of the two-door Ford was approximately 64 percent of that of the four-door model. For the Chevrolet models, incidents involving three passengers occupying the second row seat for the two-door model occurred at a rate of 78 percent of that of the four-door model.

III. Proposed Amendments

The agency is proposing to amend the definition of “designated seating position” to better ensure that seating position designations more accurately reflect real world occupancy. The proposed amendment would define “designated seating position” based on available hip room as measured according to procedures established by the Society of Automotive Engineers (SAE), with qualifications to provide for measurement of the largest hip room dimension and the incorporation of H-point in the measurement procedure. We are also proposing a formula to determine the appropriate number of designated seating positions on bench and split bench seats according to the hip room measurement. The formula proposed in this document would further clarify the appropriate number of designated seating positions for a vehicle seat.

We note that while the agency was already working internally to address the safety concerns discussed above, we received a petition for rulemaking from Strategic Safety requesting that the agency establish a more objective method for determining the number of designated seating positions (September 10, 2002; Docket No. NHTSA-2002-11398-7). Since the agency had already initiated work on the issue raised by Strategic Safety, we view its petition as moot.

A. “Designated seating position”

If made final, today's proposal would establish a definition of “designated seating position” that is more reflective of the occupancy rates experienced in the real world. By expressly relying on a hip room measurement for a 5th percentile adult female, instead of the somewhat less precise and less certain criteria of being large enough to accommodate such a person, the definition would provide for more objective determinations of what is a “designated seating position.”

We are also making the definition more objective by proposing to remove language that relies on the likelihood that a location will be used as a seat while a vehicle is in motion. Currently, a designated seat position is defined, in part, as:

[Any] plan view location capable of accommodating a person at least as large as a 5th percentile adult female, if the overall seat configuration and design and vehicle design is such that the position is likely to be used as a seating position while the vehicle is in motion [.]

As evidenced by the current vehicle fleet experience, we believe that the “likely to be used” language does not provide adequate objectivity to determine when a vehicle seat designation is required. This difficulty leads to a safety concern when the number of seating positions designated for a seat differs from the real world occupancy of that seat. Therefore, we are proposing to replace the “likely to be used” language and incorporate the term “seat,” into the definition.

In relying on the term “seat,” we recognize that it is not practicable to design a vehicle to prevent all potential occupant misuse of interior positions. However, we believe there is abundant notice to drivers and occupants of light vehicles that the use of safety belts is essential, and therefore, that sitting in a location in a vehicle that is not equipped with a safety belt is inappropriate and dangerous. Vehicle literature and advertising, as well as numerous public outreach programs, inform and remind the public of the need to wear safety belts while riding in a vehicle. Vehicle owner's manuals are replete with exhortations on the importance of always wearing a safety belt. Further, the warning label required to be on the visor in every light vehicle expressly tells vehicle occupants to wear safety belts always. The public's awareness of these messages is evidenced by the fact that the national safety belt use rate increased from 71 percent in 2001 to 80 percent in 2004, an all time high.

Consistent with the current definition, the proposed definition would be based on accommodating a 5th percentile adult female.³ However, unlike the current definition, the proposed definition would expressly and exclusively rely on a hip room measurement. A designated seating position would be any seating location that has at least 330 mm (13 inches) of hip room,⁴ when measured according to the procedure described below.

³ In examining the fatalities that occurred when a seat was occupied by more occupants than there were occupant protection systems, we found no definite skew toward child fatalities from the age distribution in the FARS data that would indicate a need to consider basing the definition on younger, smaller occupants.

⁴ The 5th percentile female hip width specified in S7.1.4 of FMVSS No. 208 is of 325 mm (12.8 inches). We rounded the measurement to 330 mm (13 inches) for purposes of the formula proposed below.

B. Measuring Hip Room

NHTSA is proposing to establish a revised procedure for measuring hip room and to place it in a new section, § 571.10, Designation of seating positions. Section 571.10 would set out, with several modifications, the procedure in SAE Recommended Practice J1100 rev. February 2001, “Motor Vehicle Dimensions,” for measuring hip room. Under SAE J1100 rev. February 2001, hip room of a seat is the minimum dimension measured laterally between the interior trim ⁵ of a vehicle on the “X” plane through the seating reference point (SgRP) within 25 mm (1 inch) below, and 76 mm (3 inches) above the SgRP and 76 mm (3 inches) fore and aft of the SgRP. However, under the proposal, we would use the H-point as a reference as opposed to the SgRP. SgRP is a design point designated by a manufacturer, while the H-point is determined by measurements within the vehicle. Reliance on the H-point would permit making measurements across an array of seat positions, independent of a manufacturer's designation.

⁵ Interior trim is a molded plastic, fabric or other non-supportive surface within the occupant compartment (e.g., a molded arm rest, a carpeted door panel, etc.).

While the SAE procedure uses the minimum dimension measured laterally between interior trim of a vehicle on the “X” plane through the seating reference point, the agency is proposing to use the maximum dimension. Further, in the case of adjustable seats, the proposal would use the position that produces the maximum value. These two aspects of the proposal would result in the largest realistic hip room being measured, and thus would more accurately account for all potential seating. Further, the width of a seat would include any void between the seat and the adjacent interior trim or adjacent seat unless the void meets certain dimensional criteria.

Hip room would be considered to be continuous under § 571.10, unless there is a separation greater than 150 mm (5.9 inches) between adjacent seat cushions, or between a seat cushion and the vehicle interior, and the separation contains either:

(1) A fixed, unpadded impediment that is at least 5 mm (0.2 inches) higher than the highest point on the upper surface of the seat cushion when viewed in profile, which extends for greater than two-thirds of the horizontal depth of the seat cushions;⁶

⁶ A surface covered in carpet or other padding would not meet this condition. This is in response to the FARS incident data that showed the carpeted drive shaft tunnel failed to act as an impediment.

(2) A void that can accommodate a rectangular box 150 mm (5.9 inches) wide, 150 mm (5.9 inches) high, and two-thirds of the horizontal depth of the seat cushion in length, with the box sitting 2 mm (0.08 inches) below each point on the top profile of the seat cushion ⁷; or

⁷ See Figure 1 of the proposed regulatory text.

(3) A parking brake or gear shift handle, that when placed in the lowest possible position, is at least 25 mm (1.0 inches) higher than the highest point of the seat cushion.

These criteria are based on the designs observed in the FARS study and noted in the PRE, which demonstrated that impediments such as carpeted barriers are ineffective at preventing three people from sitting on a seat with only two designated seating positions. The agency requests comments on whether these specifications would result in seat designations more reflective of real world occupancy rates.

C. Number of Designated Seating Positions

Section 571.10 would also provide equations for use in determining the number of “designated seating positions” on a seat. The proposed equations for calculating the number of designated seating positions would be dependent upon the overall continuous hip room. For seats with less than 1400 mm (55 inches) of hip room, the measured hip room would be divided by 400⁸ and rounded to the nearest whole number to produce the number of designated seating positions. For example, seats with approximately 1007 mm (39.5 inches) of hip room would be designated as having three seating positions.⁹

⁸ Other international standards use a similar number to determine the number of seating positions; i.e., Australian Design Rule 5, Section 10; Automobile Type Approval Handbook for Japanese Certification, Section 11-1, Article 22.

⁹ 1007 mm of measured hip room divided by 400 equals 2.5, which would then be rounded up to three.

Based on the vehicles surveyed in the PRE, at a seat width of 1007 mm (39.5 inches) and more, three occupants were more likely to occupy a 2-DSP seat, unless a non-padded barrier was present. Requiring seats at least this width or wider to be designated as having three seating positions would present manufacturers several options for compliance. Manufacturers could comply by redesigning their seats to include the appropriate impediment, provide the necessary void between adjacent seat cushions, or by installing an additional seat belt assembly. We anticipate that manufacturers would be more likely to redesign such seats, if needed, to incorporate an impediment or void as necessary. The potential vehicle packaging and marketing issues associated with the addition of a seat belt assembly, along with compliance implications (e.g., dynamic crash testing, cargo capacity, etc.) would make this option unlikely. Additionally, issues of comfort might arise as a result of three occupants being seated at the location. Space limitations may make it difficult for occupants to use their respective safety belts when three occupants are seated at such a location.

For seats with 1400 mm (55 inches) or more of hip room, the measured hip room would be divided by 450 and rounded to the nearest whole number. The purpose of picking 450 as the divisor is to prevent larger 3-DSP seats from having to be designated as 4-DSP seats. The data do not demonstrate a problem with 3-DSP seats being occupied by four passengers, and does not demonstrate the potential for any benefit from such a requirement. In addition, for larger vehicles with longer bench seats (e.g., shuttle buses and limousines), the 450 divisor results in a designated seating position width that aligns with the width typically used by seating manufacturers. The rationale for using two different equations is further discussed in the Benefits and Costs section.

Under the current definition, any bench or split bench seat in a passenger car, truck, or multipurpose passenger vehicle with a gross vehicle weight rating (GVWR) less than 4,536 kilograms (10,000 lb), having greater than 1270 mm (50 inches) of hip room shall not have less than three designated seating positions. Under the proposed definition, the calculation for determining the number of designated seating positions on a bench or split seat would apply to all vehicles equipped with such seats regardless of the vehicle weight.

D. H-Point

This document also proposes to update the definition of “H-Point,” which is referred to in the proposed definition of “designated seating position.” The current definition of “H-Point” references the “H-Point” definition in SAE Recommended Practice J826, “Devices for use in Defining and Measuring Vehicle Seating Accommodation” (1962). Since the establishment of the “H-point” definition in 49 CFR § 571.3, SAE J826 has been updated (revised July 1995) and now refers to SAE J1100 for defining “H-Point.” This rulemaking proposes to reference SAE J1100 directly in defining “H-point.” While SAE J826 has been updated, there has been no significant change to the definition of “H-Point.” Further, the proposed “H-point” definition would specify that the H-point is to be determined using the 3-D test fixture.

E. Auxiliary Seating and Safety Belt Anchorages

We are proposing to include auxiliary seats and jump seats in the definition of “designated seating position.” Currently, the definition does not include these seats. Since these seats are not designated seating positions, they are not subject to the occupant crash protection requirements applicable to designated seating positions (e.g., safety belt requirements).

Presently, the agency urges that all occupants in light vehicles be appropriately restrained when a motor vehicle is in operation. When the agency originally adopted the designated seating position definition, safety belt use rates were well below 20 percent and the focus of the agency was not on temporary seats. Now that safety belt use rates are much higher, the agency is focused on all occupants being properly restrained. This includes those occupants on auxiliary seats.

If the proposed definition is adopted, auxiliary seats and folding jump seats would be required to meet all requirements in FMVSSs applicable to designated seating positions, including the requirements of FMVSS No. 210, Seat belt assembly anchorages.

Traditionally, manufacturers have classified some side-facing seats in light vehicles as auxiliary or jump seats. The current test procedures for the anchorage strength requirements as specified in S5.2 of FMVSS No. 210 were designed for forward and rear facing seats only. Under S5.2, a force must be applied in the direction in which the seat faces in a plane parallel to the longitudinal centerline of the vehicle. For side-facing seats, including auxiliary or jump seats, the direction that the seat faces is perpendicular to the longitudinal centerline of the vehicle. Consequently, a force cannot be applied simultaneously in the direction that a side-facing seat faces and in a plane parallel to the longitudinal centerline of the vehicle. To permit strength testing of seat belt anchorages at side-facing designated seating positions, we are proposing to amend S5 of FMVSS No. 210 to specify that for side-facing seats, the specified force would be applied in the direction that the seat faces in a vertical plane perpendicular to the longitudinal centerline of the vehicle.

F. Preemption

Under 49 U.S.C. 30103(b), when a safety standard is in effect under the FMVSSs, a State is preempted from adopting or retaining a standard that imposes a different standard of performance, except for vehicles obtained for its own use. This express preemption clause has been interpreted as limited to State statutes and regulations based on the presence in the Safety Act of a provision stating that compliance with a FMVSS does not exempt “any person from any liability under common law” (49 U.S.C. 30103(c); “saving clause”).¹⁰ However, neither the express preemption clause (by negative implication) nor the saving clause bars the preemption of state common law in instances in which state law (tort law) conflicts with uniform Federal safety regulations of national applicability.¹¹

¹⁰ Geier v. American Honda Motor Co., Inc., 529 U.S. 861 (2000).

¹¹ “[T]he saving clause (like the express pre-emption provision) does not bar the ordinary working of conflict pre-emption principles.” Geier v. American Honda Motor Co., Inc., 529 U.S. 861, 869, emphasis original. Indeed, though we are setting forth the agency's intention in this particular matter, “the failure of the Federal Register to address pre-emption explicitly is thus not determinative. Id. at 884.

The definition of “designated seating position” would be established in the section for common definitions for the FMVSSs to accomplish NHTSA's essential safety objectives. As described below, differing definitions would not provide the important safety benefits that NHTSA envisions and could instead be detrimental to safety. Hence, any differing requirements would “prevent or frustrate the accomplishment of a federal objective.” Crosby v. National Foreign Trade Council, 530 U.S. 363 (2000). Therefore, if the proposed definition of “designated seating position” would be made final, section 30103(b) would preempt State statutes and regulations requiring the designation of more or different seating positions than those required by that definition.

In addition, if made final, this definition of “designated seating position” would preempt any conflicting determinations in state tort law as to whether a location is or ought to be a designated seating position. A tort law determination premised on the designation of more designated seating positions than those required by the proposed definition could have a negative safety impact. Such a determination could result in a location being equipped with a greater number of safety belts than required under the Federal standards. The installation of an excessive number of safety belts might decrease, not increase, safety. Seat belt comfort and convenience are important factors affecting the level of safety belt use. Occupants might be less likely to use safety belts because limited space would make such use difficult or uncomfortable (i.e., if too many safety belts were installed at a location, some occupants may end up sitting on buckles or be prevented from reaching his or her respective belt by the presence of another occupant). The potential for such a scenario would frustrate the efforts of this agency to base the number of designated seating positions, and thus the number of safety belts, on reasonably anticipated occupancy levels. This would hamper our efforts to promote increased safety belt use rates.

IV. Benefits and Costs

The agency has tentatively determined that there are three ways for manufacturers to address the proposed amendment to DSP: Add a lap/shoulder belt; create a space between the seats to restrict the number of seating positions; and design an impediment to reduce the likelihood of people sitting in between the outboard seats. If manufacturers were to add additional lap/shoulder belts, 5 lives would be saved and 41 AIS ¹² 2-5 injuries would be prevented annually once the proposal is fully implemented. We believe the other two options would provide somewhat less benefit than supplying a lap/shoulder belt, although we are unable to quantify the benefits of an impediment and void because the benefits are influenced by occupant behavior. The cost of the proposed change in the DSP definition would depend on which options manufacturers implemented, ranging from approximately $12 million to $41.7 million.

¹² The AIS or Abbreviated Injury Scale is used to rank injuries by level of severity. An AIS 1 injury is a minor one, while an AIS 6 injury is one that is currently untreatable and fatal.

The proposed inclusion of side-facing seats, jump seats, and auxiliary seats in the definition of designated seating position is not reflected in the benefit and cost analysis. The agency is unaware of any current vehicles with side-facing, jump seats, or auxiliary seats that would not already comply with this proposal, if it were made final.

Benefits

To estimate the number of lives saved and injuries that would be prevented if manufacturers chose to add safety belts, the agency relied on belt use rates, the estimated effectiveness of rear lap/shoulder belts, and the potential injuries and fatalities to unbelted rear seat occupants. Based on these estimates, the agency has tentatively determined that 5 lives would be saved, and 41 AIS 2-5 injuries would be prevented, annually.

To estimate seat belt usage, the agency relied on an adjusted average of the rear seat left, middle, and right positions derived from seat belt use rates generated by the General Estimates System (GES) and National Occupant Protection Use Survey (NOPUS).¹³ Because GES data rely on reporting from vehicle occupants, it may overstate seat belt use. To correct for this, the agency divided the GES estimates by the seat belt use rate observed in the June 2002 NOPUS study to obtain a conservative usage rate.¹⁴ This adjusted factor was then applied to an average of seat belt use rates for the rear left, rear middle, and rear right seat positions to generate a seat belt use rate of 64.6 percent for passenger cars and 64.1 percent for light trucks and vans (LTVs).

¹³ Data for GES come from a nationally representative sample of police reported motor vehicle crashes of all types, from minor to fatal and relies in part on statements made by vehicle occupants. NOPUS data is generated through direct observation of occupant behavior.

¹⁴ Because NOPUS is based on direct observation of occupant behavior as opposed to occupant reporting, the seat belt use rate is less likely to be overstated.

Based on previous studies, the agency has estimated the effectiveness of lap/shoulder belts in the rear seat of passenger cars and LTVs as follows:

Estimated Percent Effectiveness of Rear Seat Safety Belts ¹
Passenger cars | Rear seat lap/shoulder belt
AIS 2-5 | ² 49
Fatalities | 44
LTVs |
AIS 2-5 | ² 78
Fatalities | 73
¹ “Final Regulatory Impact Analysis Extension of the Automatic Restraint Requirements of FMVSS No. 208 to Trucks, Buses, and Multipurpose Passenger Vehicles with a Gross Vehicle Weight Rating of 8,500 Pounds or Less and an Unloaded Vehicle Weight of 5,500 Pounds or Less,” NHTSA, Plans and Policy, Office of Regulatory Analysis, November 1990.
² Assumed based on 5 percent increase in effectiveness of front seat AIS 2-5 injuries over fatalities.

The agency then estimated the potential injuries and fatalities that would occur if in instances in which three passengers occupied a second row seat with two designated seating positions and none of these passengers were restrained, to be 77 AIS 2-5 injuries and 21 fatalities. The agency also estimated the potential injuries and fatalities for LTV occupants in the same circumstances to be 111 AIS 2-5 injuries and 13 fatalities. All rear seat occupants were included in the analysis after initially concluding that the improper seating configuration would potentially affect all rear seat belt usage. The belt usage data showed a significant decrease in rate when comparing incidents in which two passengers occupied a 2-DSP seat to incidents in which three passengers occupied a 2-DSP seat; 53.25 percent belted rate versus 27.67 percent belted rate, respectively.

To compute the potential injuries prevented and lives saved, the agency multiplied the number of potential injuries by the effectiveness of the lap/shoulder belt and by the belt usage rate. This resulted in an estimation of 11 AIS 2-5 injuries and 2 fatalities prevented for passenger car occupants and 30 AIS 2-5 injuries and 3 fatalities prevented for LTV occupants. For a detailed discussion of the benefits calculation, see the preliminary regulatory evaluation placed in the docket for this rulemaking.

The benefits of incorporating a void or an impediment depend upon the occupant's response to the void or impediment. In some scenarios, the benefits would be the same as providing a lap/shoulder belt; i.e., at the time of a vehicle purchase, if a consumer recognizes that there is not enough room for an additional passenger, even for occasional trips, the consumer may choose another model vehicle that has three designated seating positions. In this instance, three safety belts would be available, and the benefits would be the same as supplying a third safety belt.

If a seating position were unavailable (because of a void) or uncomfortable (because of an impediment), an occupant would be less likely to occupy that space. This would force the extra passenger either to forego the trip or to go in another vehicle. In either instance, this reduces the risk of three occupants occupying a 2-DSP seat. If a seating position is unavailable (because of a void) or uncomfortable (because of an impediment), but three occupants sit in the back seat regardless, no benefits will accrue.

Although we cannot estimate the benefits of a void or impediment, it appears that the overall benefits of providing a void or impediment would be somewhat less than supplying a lap/shoulder belt.

Costs

The cost of the proposed amendments would depend on whether a vehicle manufacturer maintained the two seating position designation for a vehicle's rear seat or if the manufacturer increased the designated number of seating positions for the rear seat to three. If a manufacturer were to maintain a seat's 2-DSP designation under the proposed definition, it could design an appropriate impediment between seat cushions or design an appropriate void. While there has been no detailed analysis of the cost of installing an impediment, the agency has estimated a cost based on the dealership retail prices. The total cost of installing a rear seat console to impede usage in passenger cars is approximately $8.03 million (688,207 × $11.67) and in LTVs is approximately $3.94 million (337,761 × $11.67). The actual cost may be less than the estimated amount since the agency did not assume a decrease in seat cost for the reduction of the seat foam material needed.

A manufacturer may also choose to employ a void. For passenger cars, incorporation of a void in the rear seats may produce no added cost; material could be taken out, but the seat would have to be stitched (more labor) to have the void appear finished. Manufacturers could also replace a bench seat with two bucket seats. We estimate the additional cost for substitution at $18.33 per replaced bench seat. If all affected vehicles had bench seats replaced with bucket seats, the total cost would be approximately $18.88 million.

A manufacturer could also choose to increase the number of designated seating positions at a seat and provide an additional seat belt as required under FMVSS No. 208. FMVSS No. 208 requires passenger cars, trucks, multipurpose passenger vehicles or buses with a GVWR less than 4,356 kilograms (10,000 pounds) to have seat belt assemblies for each designated seating position. The agency recently published a final rule requiring lap/shoulder belt assemblies in the rear center designated seating positions (69 FR 70904; December 8, 2004; Docket No. NHTSA-04-18726; Notice 1). Therefore, it used the cost of the lap/shoulder belt assembly in that rulemaking to estimate the cost of this compliance option.

For this analysis, the agency relied on an estimated average cost of installing a lap/shoulder belt in the rear center seat of $29.85.¹⁵ For LTVs, the agency expects the rear center seat belt costs to be similar to those of passenger cars. Again, using the model year 2003 sales figure, we estimate that the cost for installing lap/shoulder belts in the rear center seats of vehicles with an increased number of designated seating positions would be approximately $30.74 million (1.03 million vehicles × $29.85).

¹⁵ In year 2003 dollars ($2003).

For some vehicles, the addition of a seat belt assembly to the rear center seat would also require reinforcement of the seat to accommodate an anchorage for the shoulder portion of a lap/shoulder seat belt assembly. The rear seat of passenger cars and pick up trucks would not need to be reinforced because the anchors for the shoulder belt could be attached to the back package shelf or down to the floor frame of the vehicle without impinging on the floor space or trunk space. However, this would not be the case for passenger vans and sport utility vehicles (SUVs). In those instances, the floor space where an anchorage may be required would be located in occupant or cargo space. Therefore, the anchorage would need to be attached to the seat itself and the seat would need to be reinforced. This reinforcement would cost $32.79 ($2003) per seating position. The agency estimates that 337,761¹⁶ vehicles would need to reinforce the rear seat to accommodate an additional seat belt assembly. The total cost of strengthening the rear seats of passenger vans and SUVs to accommodate the shoulder portion of the lap/shoulder belt would be $11.08 million ($32.79 × 337,761 vehicles). This would bring the total cost for adding lap/shoulder belts to the rear seats of motor vehicles increasing the second row seating position from 2-DSP to 3-DSP to $41.7 million ($2003).

¹⁶ Based on estimated model year 2003 sales of passenger vans and SUVs.

As previously stated, the proposed equation for calculating the number of designated seating positions varies depending on overall hip room; for seats with less than 1400 mm of hip room, the hip room is divided by 400, while a hip room measurement of anything equal to greater than 1400 mm would be divided by 450. If we used a divisor of 400 for all seats, regardless of width, a seat with 1400 mm of hip room would increase from 3-DSP under the existing definition in section 571.3 to a 4-DSP seat. Benefits for such a redesignation would be minimal because the rate at which four persons occupy a seat location currently designated as a 3-DSP seat is low. Further, the number of LTVs that would need to be modified would increase by approximately 3.4 times, resulting in cost range of $40.53 million to $217.6 million.

V. Incorporation by Reference

Under 1 CFR part 51, Incorporation by Reference, the agency must declare that the Director of the Federal Register has approved incorporation by reference of a publication into a regulation. If made final, this proposal would amend the general incorporation by reference provision at § 571.5, Matters incorporated by reference, to include a centralized index of all of the publications incorporated into part 571.

VI. Effective Date

If adopted, the amendments proposed in this rulemaking action would become effective on the third September 1st after the date of publication of a final rule in the Federal Register. For example, if a final rule were adopted on December 1, 2005, the rule would be effective beginning September 1, 2008. As stated above, we anticipate that manufacturers would incorporate a void or barrier in 2-DSP vehicle seats that, as currently configured, would become classified as having three designated seating positions. This would require less redesign than equipping these seats with an additional seat belt assembly. Based on this assumption, we have tentatively concluded that a minimum of two years would be adequate time for manufacturers to make any necessary changes. We request comment on this tentative conclusion.

VII. Request for Comments

How Do I Prepare and Submit Comments?

Your comments must be written and in English. To ensure that your comments are correctly filed in the Docket, please include the docket number of this document in your comments. Your comments must not be more than 15 pages long. (49 CFR 553.21.) We established this limit to encourage you to write your primary comments in a concise fashion. However, you may attach necessary additional documents to your comments. There is no limit on the length of the attachments. Please submit two copies of your comments, including the attachments, to Docket Management at the address given above under ADDRESSES. Comments may also be submitted to the docket electronically by logging onto the Docket Management System website at http://dms.dot.gov. Click on “Help & Information” or “Help/Info” to obtain instructions for filing the document electronically. If you are submitting comments electronically as a PDF (Adobe) file, we ask that the documents submitted be scanned using Optical Character Recognition (OCR) process, thus allowing the agency to search and copy certain portions of your submissions.¹⁷ Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://dmses.dot.gov/submit/DataQualityGuidelines.pdf.

¹⁷ Optical character recognition (OCR) is the process of converting an image of text, such as a scanned paper document or electronic fax file, into computer-editable text.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR Part 512.)

Will the Agency Consider Late Comments?

We will consider all comments that Docket Management receives before the close of business on the comment closing date indicated above under DATES. To the extent possible, we will also consider comments that Docket Management receives after that date. If Docket Management receives a comment too late for us to consider in developing a final rule (assuming that one is issued), we will consider that comment as an informal suggestion for future rulemaking action.

How Can I Read the Comments Submitted by Other People?

You may read the comments received by Docket Management at the address given above under ADDRESSES. The hours of the Docket are indicated above in the same location. You may also see the comments on the Internet. To read the comments on the Internet, take the following steps:

(1) Go to the Docket Management System (DMS) Web page of the Department of Transportation (http://dms.dot.gov/).

(2) On that page, click on “Simple Search.”

(3) On the next page (http://dms.dot.gov/search/), type in the four-digit docket number shown at the beginning of this document. Example: If the docket number were “NHTSA-1998-1234,” you would type “1234.” After typing the docket number, click on “Search.”

(4) On the next page, which contains docket summary information for the docket you selected, click on the desired comments. You may download the comments. However, since the comments are imaged documents, instead of word processing documents, the downloaded comments are not word searchable.

Please note that even after the comment closing date, we will continue to file relevant information in the Docket as it becomes available. Further, some people may submit late comments. Accordingly, we recommend that you periodically check the Docket for new material.

VIII. Rulemaking Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budget impact of entitlements, grants, user fees, or loan programs or the rights and obligations of recipients thereof; or

(4) Raise novel legal or policy issues arising out of legal mandates, the President's priorities, or the principles set forth in the Executive Order.

This document proposes to amend the definition of designated seating position in 49 CFR 571.3. The proposed amendment would provide an objective procedure for determining the number of designated seating positions present in a vehicle, and provide manufacturers with a more objective method for delineating designated seating positions. Under the proposed definition, manufacturers could maintain a vehicle's current number of designated seating positions by incorporating design changes at a cost of $11.97 million. By way of example, the Subaru Baja is currently equipped with a barrier that would maintain a 2-DSP designation for the second row seat under the proposed amendment. Further, several previous vehicle models, e.g., the Saturn SC Coupe and Acura Integra 2-door, were similarly equipped.

This rulemaking document was not reviewed by the Office of Management and Budget under E.O. 12866. It is not considered to be significant under E.O. 12866 or the Department's Regulatory Policies and Procedures (44 FR 11034; February 26, 1979). The agency has prepared a regulatory evaluation as required by the DOT policies and procedures. A copy of that evaluation has been placed in the docket for this rulemaking.

B. Regulatory Flexibility Act

In compliance with the Regulatory Flexibility Act, 5 U.S.C. 601 et seq., NHTSA has evaluated the effects of this proposed action on small entities. I hereby certify that this notice of proposed rulemaking would not have a significant impact on a substantial number of small entities.

The following is the agency's statement providing the factual basis for the certification (5 U.S.C. 605(b)). If adopted, the proposal would directly affect motor vehicle manufacturers and motor vehicle seat manufacturers. According to the size standards of the Small Business Association (at 13 CFR Part 121.601), the size standard for manufacturers of “Automobile Manufacturing” (NAICS Code 336111) is 1,000 employees or fewer. Manufacturers of vehicle seats are considered manufacturers of “Motor Vehicle Seating and Interior Trim Manufacturing” (NAICS Code 336360). The size standard for NAICS Code 336360 is 500 employees or fewer.

The majority of motor vehicle manufacturers would not qualify as a small business. These manufacturers, along with manufacturers that do qualify as a small business, would be able to maintain the current vehicle designated seating position designation through design changes outlined in the proposed definition. The definition would not require vehicles to have a certain number of designated seating positions, but would provide an objective metric to define the number of designated seating positions for a given seat.

Most of the seat manufacturers have 500 or fewer employees. But again, if design changes are required to maintain a seats 2-DSP designation, this could be done by designing a void to the specifications in the proposed definition at a minimal cost per seat. Accordingly, there would be no significant impact on small businesses, small organizations, or small governmental units by these amendments. For these reasons, the agency has not prepared a preliminary regulatory flexibility analysis.

C. Executive Order No. 13132

NHTSA has analyzed this proposed rule in accordance with the principles and criteria set forth in Executive Order 13132, Federalism and has determined that this proposal does not have sufficient Federal implications to warrant consultation with State and local officials or the preparation of a Federalism summary impact statement. The proposal would not have any substantial impact on the States, or on the current Federal-State relationship, or on the current distribution of power and responsibilities among the various local officials. The proposed rule has no substantial effects on the States, or on the current Federal-State relationship, or on the current distribution of power and responsibilities among the various local officials.

The proposed rule is not intended to preempt state tort civil actions, except that the determination in those actions of what is a “designated seating position” would be governed by the definition and procedure contained in the Federal motor vehicle safety standards. We are unaware of any State standards or determinations setting forth a conflicting definition of “designated seating position.” Therefore, the agency believes that federalism implications from this preemption would be minor.

D. National Environmental Policy Act

NHTSA has analyzed this proposal for the purposes of the National Environmental Policy Act. The agency has determined that implementation of this action would not have any significant impact on the quality of the human environment.

E. Paperwork Reduction Act

This proposed amendment does not contain any collection of information requirements requiring review under the Paperwork Reduction Act of 1995 (Pub. L. 104-13).

F. National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.”

The proposed amendment is based on the technical standard SAE J1100 “Motor Vehicle Dimensions,” revised February 2001 and incorporate SAE J826 “Devices for use in Defining and Measuring Vehicle Seating Accommodations,” revised July 1995. While the procedure for measuring hip room would be based on SAE J1100, the proposed procedure include several qualifiers. First, the proposed procedure would use the H-point rather than the SgRP. Second, the proposed procedure would use the maximum dimension measured laterally between the trimmed surface on the “X” plane through the H-Point rather than the minimum. In addition, in the case of adjustable seats, the proposed procedure would use the position that would produce the maximum value. These qualifiers would allow for the largest realistic hip room to be measured, which would account for all potential seating. Finally, this proposal clearly states what is to be considered continuous seating area for the purposes of measuring hip room. This qualifier would objectively define what constitutes a discontinuity, i.e., an impediment or void between seat cushions that would be considered sufficient to prevent occupant use.

G. Civil Justice Reform

This proposal would not have any retroactive effect. Under 49 U.S.C. 21403, whenever a Federal motor vehicle safety standard is in effect, a State may not adopt or maintain a safety standard applicable to the same aspect of performance which is not identical to the Federal standard, except to the extent that the state requirement imposes a higher level of performance and applies only to vehicles procured for the State's use. As explained above, we are further proposing that the definition of “designated seating position” established in the Federal motor vehicle safety standards preempt State law, including State tort law, from establishing a definition that is not identical. We have tentatively determined that such preemption is required to eliminate the potential for varying definitions, which could result in a loss in safety. 49 U.S.C. 21461 sets forth a procedure for judicial review of final rules establishing, amending or revoking Federal motor vehicle safety standards. That section does not require submission of a petition for reconsideration or other administrative proceedings before parties may file suit in court.

H. Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This rulemaking would not result in expenditures by State, local or tribal governments, in the aggregate, or by the private sector in excess of $100 million annually.

I. Executive Order 13045

Executive Order 13045 (62 FR 19885, April 23, 1997) applies to any rule that: (1) Is determined to be “economically significant” as defined under E.O. 12866, and (2) concerns an environmental, health, or safety risk that NHTSA has reason to believe may have a disproportionate effect on children. If the regulatory action meets both criteria, we must evaluate the environmental health or safety effects of the planned rule on children, and explain why the planned regulation is preferable to other potentially effective and reasonably feasible alternatives considered by us.

This proposed rule is not subject to the Executive Order because it is not economically significant as defined in E.O. 12866 and does not involve decisions based on environmental, health, or safety risks that disproportionately affect children. The proposed rule, if made final, would amend the definition of “designated seating position.”

J. Executive Order 13211

Executive Order 13211 (66 FR 28355, May 18, 2001) applies to any rule that: (1) is determined to be economically significant as defined under E.O. 12866, and is likely to have a significantly adverse effect on the supply of, distribution of, or use of energy; or (2) that is designated by the Administrator of the Office of Information and Regulatory Affairs as a significant energy action. If made final, this rulemaking would not be a significant energy action. Therefore, this proposal was not analyzed under E.O. 13211.

K. Plain Language

Executive Order 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

L. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

M. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Imports, Motor vehicle safety, Reporting and recordkeeping requirements, Tires.

PART 571—FEDERAL MOTOR VEHICLE SAFETY STANDARDS

In consideration of the foregoing, NHTSA proposes to amend 49 CFR Part 571 as follows:

1. The authority citation for part 571 would continue to read as follows:

Authority: 49 U.S.C. 322, 30111, 30115, 30117, and 30166; delegation of authority at 49 CFR 1.50.

2. 49 CFR 571.3(b) would be amended by revising the definition of “designated seating position” and “H-point” to read as follows;

§ 571.3 Definitions.

* * * * *

(b) * * *

Designated seating position means a seat location that has at least 330 mm (13 inches) of hip room measured according to § 571.10(b) of this part. The number of designated seating positions at a seat location is determined according to the procedure set forth in § 571.10(a) of this part. For the sole purpose of determining the classification of any vehicle sold or introduced into interstate commerce for purposes that include carrying students to and from school or related events, any location in such vehicle intended for securement of an occupied wheelchair during vehicle operation is regarded as four designated seating positions.

* * * * *

H-Point means the Pivot Center of the torso and thigh on the Three-Dimensional device used in defining and measuring vehicle seating accommodation, as defined in SAE Recommended Practice J1100 rev. February 2001.

* * * * *

3. 49 CFR 571.5 would be revised to read as follows:

§ 571.5 Incorporations by reference.

(a) The materials listed in this section are incorporated by reference in the corresponding sections noted. These incorporations by reference were approved by the Director of the Federal Register in accordance with 5 U.S.C. 552(a) and 1 CFR part 51. These materials are incorporated as they exist on the date of the approval unless a date is specified, and notice of any change in these materials will be published in the Federal Register. The materials are available for purchase at the corresponding addresses noted below, and all are available for inspection at the Office of the Federal Register, 800 North Capitol Street, NW., suite 700, Washington, DC 20001 and at the Office of Vehicle Safety Standards, National Highway Traffic Safety Administration, 400 Seventh Street, SW., Washington, DC 20590.

(b) The following materials are available for purchase from the American Association of Textile Chemists and Colorists (AATCC). Information and copies may be obtained by writing to: AATCC, 1 Davis Dr., P.O. Box 12215, Research Triangle Park, NC 27709.

(1) AATCC Geometric Gray Scale, incorporation by reference (IBR) approved for S4.2 and S5.1 of § 571.209.

(2) AATCC Test Method 381, Fungicides Evaluation on Textiles; Mildew and Rot Resistance of Textiles: Test I, Soil Burial Test; Appendix A(1) and Appendix A(2), IBR approved for S4.2 and S5.1 of § 571.209.

(c) The following materials are available for purchase from the American National Standards Institute (ANSI). Information and copies may be obtained by writing to: ANSI, 1700 North Moore St., Suite 1540, Arlington, VA 22209-1903.

(1) Determination of Coefficient of Friction of Test Surfaces, WC/Vol I-1998, Section B, IBR approved for S7.2.2 of § 571.403.

(2) Safety Glazing Materials for Glazing Motor Vehicles and Motor Vehicle Equipment Operating on Land Highways-Safety Standard, ANSI/SAE Z26.1-1996, Approved on August 11, 1997, IBR approved for S5.1, S5.2, S5.4, S5.5, S6.2, and S6.3 of § 571.205.

(d) The following materials are available for purchase from the American Society for Testing and Materials (ASTM). Information and copies may be obtained by writing to: ASTM, 100 Barr Harbor Drive, PO Box C700, West Conshohocken, PA 19428-2959.

(1) ASTM 1003-92, Haze and Luminous Transmittance of Transparent Plastic, IBR approved for S5.1.2 of § 571.108.

(2) ASTM B 117-64, Standard Method of Salt Spray (Fog) Testing, IBR approved for S6.9 of § 571.106; and S7.8.5.1, S8.4, and S8.10.2 of § 571.108.

(3) ASTM B 117-73, Standard Method of Salt Spray (Fog) Testing, IBR approved for S7.8.5.1 and S8.4 of § 571.108; S6.1.1 of § 571.125; and S5.2 of § 571.209.

(4) ASTM B 117-97, Standard Practice for Operating Salt Spray (Fog) Apparatus, IBR approved for S7.3.2 of § 571.403.

(5) ASTM B 456-79, Standard Specification for Electrodeposited Coatings of Copper Plus Nickel Plus Chromium and Nickel Plus Chromium, IBR approved for S4.3 of § 571.209.

(6) ASTM B 456-95, Standard Specification for Electrodeposited Coatings of Copper Plus Nickel Plus Chromium and Nickel Plus Chromium, IBR approved for S5.3 of § 571.403.

(7) ASTM C 150-77, Standard Specification for Portland Cement, IBR approved for S8.5 of § 571.108.

(8) ASTM D 362-84, Standard Specification for Industrial Grade Toluene, IBR approved for S8.3 of § 571.108; and S5.1.1.1 of § 571.205.

(9) ASTM D 445-65 Standard Method of Test for Viscosity of Transparent and Opaque Liquids (Kinematic and Dynamic Viscosity), IBR approved for S6.3.3 of § 571.116.

(10) ASTM D 484-71, Standard Specifications for Hydrocarbon Dry Cleaning Solvents: Table 1, IBR approved for S7.1.1 of § 571.301.

(11) ASTM D 756-78, Standard Practice for Determination of Weight and Shape Changes of Plastics and Accelerated Service Conditions, IBR approved for S5.2 of § 571.209.

(12) ASTM D 1003-92, Haze and Luminous Transmittance of Transparent Plastic, IBR approved for S5.1.2 of § 571.108.

(14) ASTM D 1056-73, Standard Specification for Flexible Cellular Materials—Sponge or Expanded Rubber, IBR approved for S6.3.1 of § 571.213.

(15) ASTM D 1121-67, Standard Method of Test for Reserve Alkalinity of Engine Antifreezes and Antirusts, IBR approved for S6.4.2 of § 571.116.

(16) ASTM D 1123-59, Standard Method of Test for Water in Concentrated Engine Antifreezes by the Iodine Reagent Method, IBR approved for S7.2 of § 571.116.

(17) ASTM D 1193-70, Standard Specifications for Reagent Water, IBR approved for S7.1 of § 571.116.

(18) ASTM D 1415-68, Standard Method of Test for International Hardness of Vulcanized Natural and Synthetic Rubbers, IBR approved for S7.4.1 of § 571.116

(19) ASTM D 1564-71, Standard Method of Testing Flexible Cellular Materials—Slab Urethane Foam, IBR approved for S6.3.1 of § 571.213.

(20) ASTM D 1565-76, Standard Specification for Flexible Cellular Materials—Vinyl Chloride Polymer and Copolymer open-cell foams, IBR approved for S6.3.1 of § 571.213.

(21) ASTM D 2515-66, Standard Specifications for Kinematic Glass Viscosity, IBR approved for S6.3.2 and S6.3.6 of § 571.116.

(22) ASTM D 4956-90, Standard Specification for Retroreflective Sheeting for Traffic Control, for Type V Sheeting, IBR approved for S5.7.1.2 of § 571.108.

(23) ASTM E 1-68, Standard Specifications for ASTM Thermometers, IBR approved for S6.1.2 and S6.3.2 of § 571.116.

(24) ASTM E 4-64, Verification of Testing Machines, IBR approved for S6.4 and S8.9 of § 571.106.

(25) ASTM E 4-79, Standard Methods of Load Verification of Testing Machines, IBR approved for S5.1 of § 571.209.

(26) ASTM E 8-89, Standard Test Methods of Tension Testing of Metallic Materials (Volume 03.01 of the 1989 Annual Book of ASTM Standards), IBR approved for S6.2 and S6.3.1 of § 571.209.

(27) ASTM E 77-66, Standard Method for Inspection, Test and Standardization of Liquid-in-Glass Thermometers, IBR approved for S6.3.3 of § 571.116.

(28) ASTM E 274-65T, IBR approved for S8.2.5 and S8.3.2 of § 571.208; and S7.5.4 of § 571.301.

(29) ASTM E 274-70 (as revised July, 1974), IBR approved for S4 of § 571.105; and S4 of § 571.122.

(30) ASTM E 298-68, Standard Methods for Assay of Organic Peroxides, IBR approved for S6.11.3 of § 571.116.

(31) ASTM E 1136, Standard Specification for A Radial Standard Reference Test Tire, IBR approved for S6.9.2 of § 571.105; S5.3.6.1 and S6.1.7 of § 571.121; S6.2.1 of § 571.122; and S6.2.1 of § 571.500.

(32) ASTM E 1337-90, Standard Test Method for Determining Longitudinal Peak Braking Coefficient of Paved Surfaces Using a Standard Reference Test Tire, IBR approved for S6.9.2 of § 571.105; S5.3.6.1 and S6.1.7 of § 571.121; S6.2.1 of § 571.122; S6.2.1 of § 571.135; and S6.2.1 of § 571.500.

(33) ASTM G 23-81, Standard Practice for Generating Light-Exposure Apparatus (Carbon-Arc Type) With and Without Water for Exposure of Nonmetallic Materials, IBR approved for S5.1 of § 571.209.

(34) 1985 Annual Book of ASTM Standards, Vol. 5.04, “Motor Fuels,” Section I, A2.3.2, A2.3.3 and A2.7 of Annex 2, IBR approved for S8.3 of § 571.108; and S5.1.1.1 of 571.205.

(35) 1989 Annual Book of ASTM Standards, IBR approved for S6.1.3, S6.2, and S6.2, of § 571.221.

(e) The following materials are available from the General Services Administration (GSA). Information and copies may be obtained by writing to: GSA, Superintendent of Documents, U.S. Government Printing Office, Washington, DC 20402: Federal Specification L-S-300 1965, Sheeting and Tape Reflective: None exposed Lens, Adhesive Backing, IBR approved for S5.1.1.4 of § 571.108.

(f) The following materials are available for purchase from the Illuminating Engineering Society (IES) of North America. Information and copies may be obtained by writing to: IES, 120 Wall St., 7th Floor, New York, NY 10005: LM-45 IES Approved Method for Electrical and Photometric Measurements of General Service Incandescent Filament Lamps (April 1980), IBR approved for S7.7 of § 571.108.

(g) The following materials are available from the Department of Defense. Information and copies may be obtained by writing to: Department of Defense, DODSSP Standardization Document Order Desk, 700 Robbins Ave., Philadelphia, PA 19111-5098

(1) MIL-S-13192, Shoes, Men's, Dress, 1976, IBR approved for S8.27.2 of § 571.201; and S6.13.2 of § 571.214.

(2) MIL-S-13192P, 1988, Military Specification, Shoes, Men's Dress, Oxford, Amendment 1, October 14, 1994, IBR approved for S8.1.8.2 of § 571.208.

(3) MIL-S-21711E, 1982, Military Specification, Shoes, Women's, Amendment 2, October 14, 1994, IBR approved for S16.2.5 of § 571.208.

(h) The following materials are available from the National Health Survey Data. Information and copies may be obtained by writing to: National Health Survey Data, Superintendent of Documents, U.S. Government Printing Office, Washington, DC 20402: 5th percentile adult female and 95th percentile adult male: Public health service Pub. No. 1000, Series 11, No. 8, “Weight, Height, and Selected Body Dimensions of Adults,” 1965, IBR approved for § 571.3.

(i) The following materials are available from the National Highway Traffic Safety Administration. Information and copies may be obtained by writing to: NHTSA, Office of Vehicle Safety Standards, DOT-NHTSA, 400 7th St., SW., Washington, DC 20590.

(1) Drawing Package, SAS-100-1000, Addendum A, Seat Base Weldment, dated October 23, 1998, IBR approved for S5.9 and S6.1.1 of § 571.213.

(2) NHTSA Standard Seat Assembly; FMVSS No. 213, No. NHTSA-213-2003, dated June 3, 2003, IBR approved for S5.9 and S6.1.1of § 571.213.

(j) The following materials are available for purchase from the Society of Automotive Engineers, Inc. (SAE). Information and copies may be obtained by writing to: SAE, 400 Commonwealth Drive, Warrendale, Pennsylvania 15096.

(1) SAE J100, revised June 1995, Class ‘A’ Vehicle Glazing Shade Bands, IBR approved for S5.3 of § 571.205.

(2) SAE J186a, Supplemental High Mounted Stop and Rear Turn Signal Lamps, September 1977, IBR approved for S5.1.1.27 and S6.1 of § 571.108.

(3) SAE J211-1980 Instrumentation for Impact Tests, IBR approved for S5.9 and S6.1.1 of § 571.213; and S7.1.9 of § 571.218.

(4) SAE J211-1995 Instrumentation for Impact Tests “ Part 1 and 2, March 1995, IBR approved for S8.27.5 of § 571.201.

(5) SAE J211/1, Revised March 1995, Instrumentation for Impact Tests—Part 1, Electronic Instrumentation, IBR approved for S5.2.5(b), S5.3.8, S5.3.9, and 5.3.10 of § 571.202a; S4.13, S6.6, S13.1, S15.36, S19.4.4, S21.5.5, S23.5.5, and S25.4 of § 571.208; and S5.2 and S6.2.3 of § 571.403.

(6) SAE J211a-1971, Instrumentation for Impact Tests, IBR approved for S6.6.2 and S6.7.2 of § 571.222.

(7) SAE J222-1970, Parking Lamps (Position Lamps), IBR approved for S5.1.6 and Table III of § 571.108.

(8) SAE J227a FEB 1976, Electric Vehicle Test Procedure, IBR approved for S6.3.11.1 of § 571.135.

(9) SAE J387-NOV 1987, Terminology-Motor Vehicle Lighting, IBR approved for S5.1.1.11, S5.4, and S6.1 of § 571/108.

(10) SAE J527-1967, Brazed Double Wall Low Carbon Steel Tubing, IBR approved for S6.13.3 of § 571.116.

(11) SAE J564a-1964, Headlamp Beam Switching, IBR approved for S5.5.1 and S5.5.2 of § 571.108.

(12) SAE J565b-1969, Semi-Automatic Beam Switching Devices, IBR approved for S5.5.1 of § 571.108.

(13) SAE J566-1960, Headlamp Mountings, IBR approved for Table III of § 571.108.

(14) SAE J567b-1970, Bulb Sockets, IBR approved for Table III and Table IV of § 571.108.

(15) SAE J573d-1968, Lamp Bulbs and Sealed Units, IBR approved for S5.1.1.16, S5.1.1.17, Note 2 and 3 of Table IV of § 571.108.

(16) SAE J575 DEC88, Tests for Motor Vehicle Lighting Devices and Components, IBR approved for S6.1, S7.8.5.3, S11, Note 2 and Note 3 of Table IV of § 571.108.

(17) SAE J575, July 1983, Tests for Motor Vehicle Lighting Devices and Components, IBR approved for S6.2.3 of § 571.131.

(18) SAE J575d-1967, Test for Motor Vehicle Lighting Devices and Components, IBR approved for S5.8.3, S5.8.4, S11, and Table III of § 571.108.

(19) SAE J575e-1970, Test for Motor Vehicle Lighting Devices and Components, IBR approved for S6.1 and S8.8 of § 571.108.

(20) SAE J576 JUL91, Plastic Materials for Use in Optical Parts, such as Lenses and Reflectors, of Motor Vehicle Lighting Devices, IBR approved for S5.1.2 of § 571.108.

(21) SAE J578, May 1988, Color Specification, IBR approved for S5.5.11 of § 571.108; and S6.2.1 of § 571.131.

(22) SAE J578, revised June 1995, Color Specification, IBR approved for S5.1 and S6.14 of § 571.403.

(23) SAE J578c-1977, Color Specification for Electric Signal Lighting Devices, IBR approved for S5.1.2 and S5.1.5 of § 571.108.

(24) SAE J580-1986, Sealed Beam Headlamp Assembly, IBR approved for S7.3.2, S7.3.7, S7.3.8, S7.4, and S8.4 of § 571.108.

(25) SAE J584-1964, Motorcycle and Motor Driven Cycle Headlamps, IBR approved for S7.9.1 and S7.9.2 of § 571.108.

(26) SAE J584 OCT93, Motorcycle Headlamps, IBR approved for S7.9.3 of § 571.108.

(27) SAE J585d-1970, Tail Lamps (Rear Position Lights), IBR approved for S5.8.8 and S6.1 of § 571.108.

(28) SAE J585e-1977, Tail Lamps (Rear Position Lights), IBR approved for S5.1.1.6, S6.1, Table I and Table III of § 571.108.

(29) SAE J586b-1966, Stop Lights, IBR approved for S5.8.3 of § 571.108.

(30) SAE J586c-1970, Stop Lights, IBR approved for S5.8.3, S5.8.6, and S6.1 of § 571.108.

(31) SAE J586 NOV84, Stop Lamps Used on Motor Vehicles Less than 2032 mm in Overall Width, IBR approved for S6.1 and Table III of § 571.108.

(32) SAE J587-1981, License Plate Lamps (Rear Registration Plate Lamps), IBR approved for Table I and Table III of § 571.108.

(33) SAE 588d-1966, Turn Signal Lamps, IBR approved for S5.8.4 and S5.8.9 of § 571.108.

(34) SAE 588e-1970, Turn Signal Lamps, IBR approved for S5.1.1.1, S5.5.6, S5.8.4, S5.8.5, S5.8.6, S5.8.7, and S6.1 of § 571.108.

(35) SAE 588 NOV84, Turn Signal Lamps for Use on Motor Vehicles Less than 2032 mm in Overall Width, IBR approved for S5.1.1.7, S6.1, and Table III of § 571.108.

(36) SAE J589-1964, Turn Signal Switch, IBR approved for Table I and Table III of § 571.108.

(37) SAE J590b-1965, Automotive Turn Signal Flasher, IBR approved for S5.1.1.19, Table I and Table III of § 571.108.

(38) SAE J592-1992, Clearance, Sidemarker, and Identification Lamps, IBR approved for S5.2.3.3 of § 571.121.

(39) SAE J592e-1972, Clearance, Sidemarker, and Identification Lamps, IBR approved for S5.1.1.8 and Table I of § 571.108; and S5.2.3.3 of § 571.121.

(40) SAE J593c-1968, Backup Lamps, IBR approved for S5.1.1.18, S5.3.1.5, Table I, and Table III of § 571.108.

(41) SAE J594f-1977, Reflex Reflectors, IBR approved for S5.1.1.4, S5.7.2.1, Table I, and Table III of § 571.108.

(42) SAE J602-1980, Headlamp Aiming Device for Mechanically Aimable Sealed Beam Headlamp Units, IBR approved for S6.1 and S7.8.5.1 of § 571.108.

(43) SAE J726-1979, Recommended Practice, Air Cleaner Test Code, IBR approved for S5.2 of § 571.209.

(44) SAE J759-1995, Recommended Practice, Lighting Identification Code, IBR approved for S5.2.3.3 of § 571.121.

(45) SAE J787g 1966, Motor Vehicle Seat Belt Anchorage, IBR approved for § 571.3.

(46) SAE J800c-1973, Recommended Practice, Motor Vehicle Seat Belt Installations, IBR approved for S4.1 of § 571.209.

(47) SAE J826-1980, Devices for Use in Defining Vehicle Seating Accommodations, IBR approved for S5.1 and S5.2 of § 571.202; S10.4.2.1 of § 571.208; and S7.2.1 of § 571.214.

(48) SAE J826 May 87, Devices for Use in Defining and Measuring Vehicle Seating Accommodations, IBR approved for S4.3.2 of § 571.210.

(49) SAE J826-1992, Devices for Use in Defining and Measuring Vehicle Seating Accommodations, IBR approved for S6.2.1.1, S6.2.2, and S6.2.2.1 of § 571.225.

(50) SAE J826 rev. July 1995, Devices for Use in Defining and Measuring Vehicle Seating Accommodations, IBR approved for § 571.10 and S3, S5, S5.1, S5.1.1, S5.2, S5.2.1, S5.2.2, and S5.2.7 of § 571.202a.

(51) SAE J839b-1965, Passenger Car Side Door Latch System, IBR approved for S5.3.1 of § 571.201

(52) SAE J839-1991, Passenger Car Side Door Latch System, IBR approved for S5.1.1.1, S5.1.1.2 and S5.2.1 of § 571.206

(53) SAE J887-1964, School Bus Red Signal Lamps, IBR approved for S5.2.1, S5.1.4, and S5.1.5 of § 571.108.

(54) SAE J902-1964, Recommended Practice, Passenger Car Windshield Defrosting Systems, IBR approved for S4.2 and S4.3 of § 571.103.

(55) SAE J902a-1967, Passenger Cart Windshield Defrosting Systems, IBR approved for S4.3 of § 571.103.

(56) SAE J903a-1966, Passenger Car Windshield Wiper Systems, IBR approved for S3, S4.1.1.4, S4.1.2, S4.1.2.1, S4.2.1, and S4.2.2 of § 571.104.

(57) SAE J910-1966, Vehicle Hazard Warning Signal Flasher, IBR approved for Table I and Table III of § 571.108.

(58) SAE J921-1965, Recommended Practice, Instrument Panel Laboratory Impact Test Procedure, IBR approved for S5.1.2 and S5.2.2 of § 571.201.

(59) SAE J934-1982, Recommended Practice, Vehicle Passenger Door Hinge Systems, IBR approved for S5.1.2 and S5.2.2 of § 571.206.

(60) SAE J941-1965, Passenger Car Driver's Eye Range, IBR approved for S3 of § 571.104.

(61) SAE J942-1965, Passenger Car Windshield Washer System, IBR approved for S4.2.1 and S4.2.2 of § 571.104.

(62) SAE J944-JUN80, Steering Control System-Passenger Car-Laboratory Test Procedure, IBR approved for S5.1 of § 571.203.

(63) SAE J944 1965, Steering Wheel Assembly Laboratory Test Procedure, IBR approved for S5.1 of § 571.203.

(64) SAE J945b-1966, Vehicular Hazard Warning Signal Flashers, IBR approved for Table I and Table III of § 571.108.

(65) SAE J964 OCT84, Test Procedure for Determining Reflectivity of Rear View Mirrors, IBR approved for S11 of § 571.111.

(66) SAE J972-1966, Moving Barrier Collision Test, IBR approved for S19 of § 571.105.

(67) SAE J977-1966, Instrumentation for Laboratory Impact Tests, IBR approved for S5.1.2 and S5.2.2 of § 571.201.

(68) SAE J1100 JUN84, Motor Vehicle Dimensions, IBR approved for S4.3.2 of § 571.210.

(69) SAE J1100-1993, Recommended Practice, Motor Vehicle Dimensions, IBR approved for S6.2.1.1, 6.2.2, and S6.2.2.1 of § 571.225.

(70) SAE J1100 rev. February 2001, Motor Vehicle Dimensions, IBR approved for § 571.3.

(71) SAE J1133, April 1984, School Bus Stop Arm, IBR approved for S6.2.3 of § 571.131.

(72) SAE J1383-1985, Performance Requirements for Motor Vehicle Headlamps, IBR approved for S7.3, S7.3.1, S7.3.2, S7.3.7, S7.3.8, S7.4, S7.5, S7.7, S7.8.1, S7.8.5.1, S7.8.5.2, S8.1, and S10 of § 571.108.

(73) SAE J1395 APR85, Turn Signal Lamps for Use on Motor Vehicles 2032 mm or More in Overall Width, IBR approved for S6.1 and Table I of § 571.108.

(74) SAE J1398 MAY85, Stop Lamps for Use on Motor Vehicles 2032 mm or More in Overall Width, IBR approved for S6.1 and Table I of § 571.108.

(75) SAE J1703 JAN 1995, Motor Vehicle Brake Fluid, Appendix B, SAE RM-66-04 Compatibility Fluid, IBR approved for S5.3.9 of § 571.106; and S6.5.4.1 and S6.10.2 of § 571.116.

(76) SAE J1703 NOV 1983, Motor Vehicle Brake Fluid, Appendix A, SAE RM-66-03 Compatibility Fluid, IBR approved for S5.3.9 and S6.7.1 of § 571.106; and S6.2.1, S6.5.4.1, S6.10.2, and S6.13.2 of § 571.116.

(77) SAE J1703b, IBR approved for S6.6.3, S6.11.3, S6.1.3.2, and S7.6 of § 571.116.

(78) SAE J2009 FEB93, Forward Discharge Lighting Systems, IBR approved for S7.7 of § 571.108.

(79) SAE Aerospace-Automotive Drawing Standards, SEP 1963, IBR approved for S3 of § 571.104; and S5.1 of § 571.202.

(k) The following materials are available for purchase from the United Nations. Information and copies may be obtained by writing to: United Nations, Conference Services Division, Distribution and Sales Section, Office C.115-1, Palais des Nations, CH-1211, Geneva 10, Switzerland. Copies of Regulations also are available on the ECE Internet Web site: http://www.unece.org/trans/main/wp29/wp29regs.html.

(1) “Uniform Provisions Concerning the Approval of Vehicles with Regard to Installation of Lighting and Light-Signalling Devices,” Economic Commission for Europe Regulation 48:E/ECE/324-E/ECE/TRANS/50, Rev.1/Add.47/Rev.1/Corr.2, p.17 (February 26, 1996), IBR approved for S12.6 of § 571.108.

(2) “Uniform Provisions Concerning the Approval of Vehicles with Regard to the Seats, their Anchorages and any Head Restraints” Economic Commission for Europe Regulation 17: ECE 17 Rev. 1/Add. 16/Rev. 4 (31 July 2002), IBR approved for S4.4(a) of § 571.202.

4. 49 CFR 571.10 would be added to read as follows:

§ 571.10 Designation of seating positions.

(a) The formula for calculating the number of designated seating positions (N) for any seat with greater than 330 mm (13 inches) of hip room in a passenger car, truck, multipurpose passenger vehicle and bus, except for a school bus, is as follows:

(1) For seats with less than 1400 mm (55.2 inches) of hip room:

N = [Hip room (in millimeters)/400] rounded to the nearest whole number;

(2) For seats with equal to or greater than 1400 mm (55.2 inches) of hip room:

N = [Hip room (in millimeters)/450] rounded to the nearest whole number.

(b) Hip room is measured as follows: Calculate the maximum dimension measured laterally between the interior trim on the “X” plane through the H-Point within 25 mm (1 inch) below and 76 mm (3 inches) above the H-Point and 76 mm (3 inches) fore and aft of the H-Point. Exclude any portion of this 101 mm by 152 mm area around the H-Point in side view below and behind the seat cushion and seat back trim. If the area is totally excluded by the seat cushion and seat back trim, measure width to trimmed door or quarter trim surface closest, in side view, to the H-Point. If the seat is adjustable, the position that produces the maximum measurement is used. The H-Point location is measured using the SAE three-dimensional H-Point machine per SAE Recommended Practice J826, rev. July 1995, with the legs and leg weights uninstalled.

(1) The hip room measurement terminates at the vertical projection of each point on the side profile of the seat cushion, subject to the conditions of paragraph (b)(2) of this section.

(2) Hip room is considered to be continuous across the width of the vehicle interior, unless there is a separation between adjacent seat cushions, or a seat cushion and the interior trim, greater than 150 mm (5.9) inches, and the separation contains one of the following:

(i) A fixed, unpadded impediment that is at least 5 mm (0.2 inches) higher than each point on the top profile of the seat cushion, and that extends for greater than two-thirds of the horizontal depth of the seat cushion.

(ii) A void adjacent to the seat cushion that can accommodate a rectangular box 150 mm (5.9 inches) wide, 150 mm (5.9 inches) high, and two-thirds of the horizontal depth of the seat cushion in length, as follows:

(A) The top surface of the box is at least 2 mm (0.08 inches) below each point on the top profile of the seat cushion, and

(B) The angular orientation of the box does not exceed 20 degrees from the horizontal. (See Figure 1.)

(iii) A parking brake or gearshift handle that is at least 25 mm (1 inch) higher than the highest point of the seat cushion while the vehicle is in motion.

BILLING CODE 4910-59-P

BILLING CODE 4910-59-C

5. 49 CFR 571.210 would be amended by revising S5.1 and S5.2 to read as follows:

§ 571.210 Standard No. 210; seat belt assembly anchorages.

* * * * *

S5.1 Seats with Type 1 or Type 2 seat belt anchorages. With the seat in its rearmost position, apply a force of 22,241 N in the direction in which the seat faces to a pelvic body block as described in Figure 2A, in a plane parallel to the longitudinal centerline of the vehicle for forward and rear facing seats, and in a plane perpendicular to the longitudinal centerline of the vehicle for side facing seats, with an initial force application angle of not less than 5 degrees or more than 15 degrees above the horizontal. Apply the force at the onset rate of not more than 222,411 N per second. Attain the 22,241 N force in not more than 30 seconds and maintain it for 10 seconds. At the manufacturer's option, the pelvic body block described in Figure 2B may be substituted for the pelvic body block described in Figure 2A to apply the specified force to the center set(s) of anchorages for any group of three or more sets of anchorages that are simultaneously loaded in accordance with S4.2.4 of this standard.

S5.2 Seats with Type 2 or automatic seat belt anchorages. With the seat in its rearmost position, apply forces of 13,345 N in the direction in which the seat faces simultaneously to a pelvic body block, as described in Figure 2A, and an upper torso body block, as described in Figure 3, in a plane parallel to the longitudinal centerline of the vehicle for forward and rear facing seats, and in a plane parallel to the transverse centerline of the vehicle for side facing seats, with an initial force application angle of not less than 5 degrees nor more than 15 degrees above the horizontal. Apply the forces at the onset rate of not more than 133,447 N per second. Attain the 13,345 N force in not more than 30 seconds and maintain it for 10 seconds. At the manufacturer's option, the pelvic body block described in Figure 2B may be substituted for the pelvic body block described in Figure 2A to apply the specified force to the center set(s) of anchorages for any group of three or more sets of anchorages that are simultaneously loaded in accordance with S4.2.4 of this standard.

* * * * *

Issued: June 16, 2005.
Stephen Kratzke,
Associate Administrator for Rulemaking.

[FR Doc. 05-12240 Filed 6-21-05; 8:45 am]

BILLING CODE 4910-59-P